DEPARTMENT OF HOUSING AND URBAN DEVELOPMENT

[Docket No. FR-4563-N-12]

Notice of Proposed Information Collection for Financial Standards for Housing Agency-Owned Insurance

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: October 13, 2000.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Financial Standards for Housing Agency-Owned Insurance.

OMB Control Number: 2577-0186.

Description of the need for the information and proposed use: Public Housing Agency (PHA)-owned insurance organizations must furnish HUD with professioanl evaluations of performance consisting of an annual audit and an actuarial report upon their establishment date. A claim audit is submitted to HUD every three years by the organizations. This information is needed in order for HUD to continue to approve the entity as an organization to provide insurance to PHAs.

Agency form numbers: None.

Members of affected public: PHA-owned insurance entities.

Estimation of the total number of hours needed to prepare the information collection including number of respondents, frequency of response, and hours of response: 19 respondents, one response annually for the audit and actuarial report, eight hours per response; one response every three years for the claim audit, two hours per response. 152 + 38 = 190 total hours reporting burden.

Status of the proposed information collection: Extension.

Authority: Section 3506 of the Paperwork Reduction Act of 1995, 44 U.S.C. chapter 35, as amended.

Dated: August 7, 2000.
Rod Solomon,
Deputy Assistant Secretary for Policy, Program and Legislative Initiatives.

[FR Doc. 00-20492 Filed 8-11-00; 8:45 am]

BILLING CODE 4210-33-M